DEPARTMENT OF COMMERCE

International Trade Administration

[Docket No.: ITA-2022-0007]

RIN 0625-XC048

Request for Comments on Artificial Intelligence Export Competitiveness

AGENCY: International Trade Administration, Department of Commerce.

ACTION: Notice of information collection; request for comment.

SUMMARY: The Department of Commerce (DOC) has made it a top priority to drive U.S. innovation and global competitiveness in critical and emerging technologies such as artificial intelligence (AI). Recognizing the growing importance of AI and the impact it can have for transforming our economy, industries, and society, the International Trade Administration (ITA) is requesting public comments to gain insight on the current global AI market and stakeholder concerns regarding international AI policies, regulations, and other measures which may impact U.S. exports of AI technologies. This stakeholder input will provide the DOC with a stronger understanding of the AI landscape as AI impacts existing economic sectors and industries, creates new areas for innovations, and makes its way into global trade discussions.

DATES: Comments must be submitted in writing by October 17, 2022.

ADDRESSES: You may submit comments by either of the following methods:

Electronic Submission (Strongly Preferred): Submit all electronic comments via the Federal e-Rulemaking Portal. Go to https://www.regulations.gov and enter ITA-2022-0007 in the Search box. Click on the “Comment” icon, complete the required fields, and enter or attach your comments.

Email: artificialintelligence@trade.gov. Comments submitted by email should be machine-readable and should not be copy-protected. However, if you are unable to comment via regulations.gov or email, you may contact artificialintelligence@trade.gov for instructions on submitting your comments.

Comments sent by any other method, to any other address or individual, or received after the end of the comment period, may not be considered by ITA. All comments received are a part of the public record and will generally be posted for public viewing on www.regulations.gov without change.

Commenters should include the name of the person or organization filing the comment. All personal identifying information (for example, name, address) voluntarily submitted by the commenter may be publicly accessible. ITA will not accept anonymous comments.

For those seeking to submit confidential business information (CBI) for Government use only, please clearly mark such submissions as CBI and submit an accompanying redacted version to be made public. CBI comments can be submitted either through www.regulations.gov (strongly preferred) or by email.

FOR FURTHER INFORMATION CONTACT: Cameron Small, International Trade Administration, U.S. Department of Commerce, 1401 Constitution Avenue NW, Room 28018, Washington, DC 20230; telephone (202) 495-8356; email artificialintelligence@trade.gov. Please direct media inquiries to ITA's Office of Public Affairs (202) 482-3809 or publicaffairs@trade.gov.

SUPPLEMENTARY INFORMATION: The Commerce Department is focused on solidifying U.S. leadership in emerging technologies, including AI, to drive U.S. innovation and global competitiveness. The United States seeks to promote the development of innovative and trustworthy AI systems that respect human rights, democratic values, and are designed to enhance privacy protections. The Department of Commerce International Trade Administration (ITA) seeks to promote these ideals through stakeholder engagement and with the goal of supporting U.S. economic interests. In support of its mission to create prosperity by strengthening the international competitiveness of U.S. industry, promoting trade and investment, and ensuring fair trade and compliance with trade laws and agreements, the ITA requests information from stakeholders on the global market landscape for AI. This information will be used to inform ITA efforts to promote an international environment that supports U.S. AI research and innovation, opens markets for U.S. AI technologies, and enhance the U.S. technological advantage in AI.

ITA is broadly defining AI as both the goods and services that enable AI systems, such as data, algorithms and computing power, as well as AI-driven products across all industry verticals, such as autonomous vehicles, robotics and automation technology, medical devices and healthcare, security technology, and professional and business services, among others. This notice serves as a general solicitation for public comment as an initial step to enhance ITA's understanding of the current global market landscape for the deployment of AI technologies, including a particular emphasis on rapidly developing AI policy and regulatory landscape in foreign markets and the potential impact on U.S. competitiveness. ITA seeks input from stakeholders regarding any international policies or regulations that impact the ability of U.S. companies to develop, deploy, or export advanced and effective AI technologies and AI-enabled products and services competitively to foreign markets.

Questions for Comment: This notice serves as an initial step in improving ITA's understanding of private sector interests, concerns, and policy needs with respect to the potential for exports of AI technologies. ITA seeks broad input from all interested stakeholders—including U.S. industry, researchers, academia, and civil society—on the potential opportunities for and challenges to increasing U.S. export competitiveness for AI-enabled technologies. Commenters are encouraged to address any and all the following questions that pertain to their experience or expertise with AI technologies or to submit general comments addressing U.S. competitiveness in AI broadly. To the extent commenters choose to respond to the specific questions asked, responses may be formatted as the commenter prefers.

Request for Comment on Questions Related to AI

1. What foreign/international AI policies or regulations exist?

2. What trade barriers currently exist in the AI space? What remedies could resolve these trade barriers?

3. What challenges are there when it comes to exporting AI products or services?

4. How could international AI regulations impact future product or service design and development?

5. What trade policies could be helpful in supporting small-to-medium sized enterprises that export AI products and services?

6. Who is involved in standards development activities related to AI? In which fora should standards development for AI take place?

7. What challenges does your organization face with regards to protecting your AI intellectual property (IP), especially during overseas dealings?

8. What can the U.S. government do to best foster and protect IP rights for U.S. AI technologies in overseas dealings?

9. How should trustworthiness and risk management of AI systems be considered by industry and/or policymakers?

10. What role do global innovation hubs and regulatory sandboxes play in U.S. competitiveness in AI? Please describe specific examples of involvement if applicable.

11. How is U.S. competitiveness (talent, research and development, and commercial exports) in AI compared to other countries?

12. What can the International Trade Administration do to create more opportunities for U.S. AI technologies in the global marketplace? What impactful actions can ITA take to reduce or remove challenges, risks, and barriers to help U.S. AI technologies compete in the global marketplace?

13. How can AI be incorporated into existing and future trade agreements to ensure the competitiveness of U.S. industry?

Barton Meroney,
Executive Director, Office of Manufacturing Industries.

[FR Doc. 2022-17576 Filed 8-15-22; 8:45 am]

BILLING CODE 3510-DR-P